FEDERAL TRADE COMMISSION

United States Postal Service Study

AGENCY: Federal Trade Commission.

ACTION: Extension of deadline for submission of public comments.

SUMMARY: The Federal Trade Commission is extending the deadline for filing public comments on several issues in connection with the preparation of a report required by the Postal Accountability and Enhancement Act.

DATES: Public comments must be received on or before August 6, 2007.

ADDRESSES: Comments should refer to “USPS Study, Project No. P071200” to facilitate the organization of comments. A comment filed in paper form should include this reference both in the text and on the envelope, and the original and two copies should be delivered to the following address: Federal Trade Commission/Office of the Secretary, Room 135-H (Annex F ), 600 Pennsylvania Avenue, N.W., Washington, D.C. 20580.

Because paper mail in the Washington area and at the FTC is subject to delay, please consider submitting your comment in electronic form, as prescribed below. Comments containing any material for which confidential treatment is requested, however, must be filed in paper (rather than electronic) form, and the first page of the document must be clearly labeled “Confidential,” and must comply with FTC Rule 4.9(c).¹

¹ The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form (except comments containing any confidential material) should be submitted to the FTC by clicking on the following Web link: https://secure.commentworks.com/FTC/USPSStudy and following the instructions on the Web-based form. You also may visit http://www.regulations.gov to read this request for public comment and may file an electronic comment through that Web site. The FTC will consider all comments that regulations.gov forwards to it.

The FTC Act and other laws the Commission administers permit the collection of public comments to consider and use in this proceeding as appropriate. All timely and responsive public comments, whether filed in paper or electronic form, will be considered by the Commission and will be available to the public on the FTC Web site, to the extent practicable, at http://www.ftc.gov/os/publiccomments.shtm. As a matter of discretion, the FTC makes every effort to remove home contact information for individuals from the public comments it receives before placing those comments on the FTC Web site. More information, including routine uses permitted by the Privacy Act, may be found in the FTC’s privacy policy, at http://www.ftc.gov/ftc/privacy.htm.

FOR FURTHER INFORMATION CONTACT: Requests for additional information should be addressed to James Cooper, Federal Trade Commission, Office of Policy Planning, 600 Pennsylvania Avenue, N.W., Washington, D.C. 20580. Email: jcooper1@ftc.gov; Telephone: 202-326-3367.

SUPPLEMENTARY INFORMATION: On December 20, 2006, President Bush signed the Postal Accountability and Enhancement Act into law. The Act requires the Federal Trade Commission to prepare and submit to the President, Congress, and the Postal Regulatory Commission (“PRC”) a comprehensive report, by December 20, 2007, identifying Federal and State laws that apply differently to the United States Postal Service — with respect to the competitive category of mail — and to private companies providing similar products.

On May 1, 2007, the Commission announced that it was seeking public comment on several issues to assist in the preparation of the report, and published a Notice to that effect in the Federal Register. See 72 Fed. Reg. 23,820 (May 1, 2007). The Notice also designated July 2, 2007, as the deadline for filing public comments. A number of prospective commenters have now requested a thirty-day extension of the public comment period, in order to ensure that they will be able to provide the Commission with the best information available. In light of the number and importance of the issues on which it has requested comment, the Commission has determined to extend the filing deadline until August 6, 2007.

By direction of the Commission.
Donald S. Clark,
Secretary.

[FR Doc. E7-11607 Filed 6-14-07; 8:45 am]

BILLING CODE 6750-01-S